COURT SERVICES AND OFFENDER SUPERVISION AGENCY FOR THE DISTRICT OF COLUMBIA

Generic Information Collection, Extension

AGENCY: Court Services and Offender Supervision Agency for the District of Columbia (CSOSA).

ACTION: Notice of generic information collection—emergency extension without change.

SUMMARY: In accordance with the Paperwork Reduction Act (PRA), CSOSA announces that it submitted to the Office of Management and Budget (OMB) a request for a 6 (six) month extension of the generic information collection request, to be effective after the current February 28, 2017 expiration date. OMB approved the emergency extension on February 24, 2017.

FOR FURTHER INFORMATION CONTACT: Rochelle Durant, Program Analyst, Office of General Counsel, Court Services and Offender Supervision Agency, 633 Indiana Avenue NW., Room 1253, Washington, DC 20004, Phone: (202) 220-5304 or to: rochelle.durant@csosa.gov.

SUPPLEMENTARY INFORMATION: Abstract: The information collection activity provides a means to garner qualitative customer and stakeholder feedback in an efficient, timely manner in accordance with the Administration's commitment to improving service delivery. By qualitative feedback we mean information that provides useful insights on perceptions and opinions, but are not statistical surveys that yield quantitative results that can be generalized to the population of study. This feedback will provide insights into customer or stakeholder perceptions, experiences and expectations, provide an early warning of issues with service, or focus attention on areas where communication, training or changes in operations might improve delivery of products and services. These collections will allow for ongoing, collaborative and actionable communications between CSOSA and its stakeholders. It will also allow feedback to contribute directly to the improvement of program management.

Collection Title: Collection of Qualitative Feedback on Agency Service Delivery.

OMB-Number: 3225-0002.

Affected Public: Individuals currently or recently under court-ordered supervision by CSOSA, CSOSA stakeholders including members of the community (e.g., DC residents who attend CSOSA community justice advisory network meetings) and criminal justice systems (e.g., judges, parole commissioners, etc.).

Estimated Number of Respondents: 1340.

Average Expected Annual Number of Activities: 3.

Average Number of Respondents per Activity: 447.

Annual Responses: 1340.

Frequency of Responses: Once per request.

Average Minutes per Response: 7.

Total Burden Hours: 145.

Cost Burden: $19,484.

Dated: February 27, 2017.
Rochelle Durant,
Program Analyst, Court Services and Offender Supervision Agency.

[FR Doc. 2017-04118 Filed 3-2-17; 8:45 am]

BILLING CODE 3129-04-P